DEPARTMENT OF COMMERCE

Draft NOAA Five Year Research and Development Plan

AGENCY: National Oceanic and Atmospheric Administration (NOAA), Department of Commerce (DOC).

ACTION: Draft NOAA Five Year Research and Development Plan for Public Review.

SUMMARY: NOAA's draft Five Year Research and Development Plan is available for public review and comment until June 3, 2013. This plan will guide NOAA's research and development activities over the next five years, from 2013-2017. The Plan provides a common understanding among NOAA's leadership, workforce, partners, constituents, and Congress on how the agency's R&D creates value. This plan will help NOAA and the public monitor and evaluate the agency's progress and learn from its experiences.

ADDRESSES: The draft can be found at http://nrc.noaa.gov/CouncilProducts/ResearchPlans.aspx.

For further information please contact oar.rc.execsec@noaa.gov.

Dated: April 30, 2013.
Jason Donaldson,
Chief Financial Officer/Chief Administrative Officer, Office of Oceanic and Atmospheric Research, National Oceanic and Atmospheric Administration.

[FR Doc. 2013-10831 Filed 5-6-13; 8:45 am]

BILLING CODE P